DEPARTMENT OF HEALTH AND HUMAN SERVICES

National Institutes of Health

Eunice Kennedy Shriver National Institute of Child Health & Human Development; Amended Notice of Meeting

Notice is hereby given of a change in the meeting of the National Advisory Child Health and Human Development Council, June 9, 2016, 8:00 a.m. to June 9, 2016, Adjournment, National Institutes of Health, Building 31, C Wing, Conference Room 10, 9000 Rockville Pike, Bethesda, MD 20892 which was published in the Federal Register on April 25, 2016, 81 FR 2411.

This meeting notice is amended to change the conference room location from Room 6 to Room 10. The meeting is partially closed to the public.

Dated: May 4, 2016.
Michelle Trout,
Program Analyst, Office of Federal Advisory Committee Policy.

[FR Doc. 2016-10881 Filed 5-9-16; 8:45 am]

BILLING CODE 4140-01-P